CONSUMER PRODUCT SAFETY COMMISSION

Notice of Meeting of Chronic Hazard Advisory Panel on Phthalates and Phthalate Substitutes

AGENCY: Consumer Product Safety Commission.

ACTION: Notice of meeting.

SUMMARY: The U.S. Consumer Product Safety Commission (“CPSC” or “Commission”) announces the sixth meeting of the Chronic Hazard Advisory Panel (CHAP) on phthalates and phthalate substitutes. The Commission appointed this CHAP to study the effects on children's health of all phthalates and phthalate alternatives as used in children's toys and child care articles, pursuant to section 108 of the Consumer Product Safety Improvement Act of 2008 (CPSIA) (Pub. L. 110-314).

DATES: The meeting will be held on Wednesday, November 2 through Friday, November 4, 2011. The meeting will begin at approximately 9 a.m. each day. It will end at approximately 5 p.m. on Wednesday and Thursday, and at approximately 2 p.m. on Friday.

ADDRESSES: The meeting will be held in the fourth floor hearing room at the Commission's offices at 4330 East West Highway, Bethesda, MD.

Registration and Webcast: Members of the public who wish to attend the meeting in person may register on the day of the meeting. This meeting will also be available live via webcast at: http://www.cpsc.gov/Webcast. Registration is not necessary to view the webcast. There will not be any opportunity for public participation at this meeting.

FOR FURTHER INFORMATION CONTACT: Michael Babich, Directorate for Health Sciences, Consumer Product Safety Commission, Bethesda, MD 20814; telephone (301) 504-7253; e-mail mbabich@cpsc.gov.

SUPPLEMENTARY INFORMATION: Section 108 of the CPSIA permanently prohibits the sale of any “children's toy or child care article” containing more than 0.1 percent of each of three specified phthalates: di-(2-ethylhexyl) phthalate (DEHP), dibutyl phthalate (DBP), and benzyl butyl phthalate (BBP). Section 108 also prohibits on an interim basis, the sale of any “children's toy that can be placed in a child's mouth” or “child care article” containing more than 0.1 percent of each of three additional phthalates: diisononyl phthalate (DINP), diisodecyl phthalate (DIDP), and di-n-octyl phthalate (DNOP).

Moreover, section 108 of the CPSIA requires the Commission to convene a CHAP “to study the effects on children's health of all phthalates and phthalate alternatives as used in children's toys and child care articles.” The CPSIA requires the CHAP to complete an examination of the full range of phthalates that are used in products for children and:

• Examine all of the potential health effects (including endocrine disrupting effects) of the full range of phthalates;

• Consider the potential health effects of each of these phthalates, both in isolation, and in combination with other phthalates;

• Examine the likely levels of children's, pregnant women's, and others' exposure to phthalates, based upon a reasonable estimation of normal and foreseeable use and abuse of such products;

• Consider the cumulative effect of total exposure to phthalates, from children's products and from other sources, such as personal care products;

• Review all relevant data, including the most recent, best available, peer-reviewed, scientific studies of these phthalates and phthalate alternatives that employ objective data-collection practices or employ other objective methods;

• Consider the health effects of phthalates, not only from ingestion, but also as a result of dermal, hand-to-mouth, or other exposure;

• Consider the level at which there is a reasonable certainty of no harm to children, pregnant women, or other susceptible individuals and their offspring, reviewing the best available science, and using sufficient safety factors to account for uncertainties regarding exposure and susceptibility of children, pregnant women, and other potentially susceptible individuals; and

• Consider possible similar health effects of phthalate alternatives used in children's toys and child care articles.

The CPSIA contemplates completion of the CHAP's examination within 18 months of the panel's appointment, followed by an additional 6 months to complete their final report. The CHAP's final report is expected in April 2012.

The CHAP must make recommendations to the Commission about which phthalates, or combinations of phthalates (in addition to those identified in section 108 of the CPSIA), or phthalate alternatives that the panel determines should be prohibited from use in children's toys or child care articles or otherwise restricted. The Commission selected the CHAP members from scientists nominated by the National Academy of Sciences. See 15 U.S.C. 2077, 2030(b).

The CHAP met previously in April, July, and December 2010, and in March and July 2011. The CHAP heard testimony from interested parties at the July meeting. The November meeting will include invited speakers on Wednesday morning, followed by a discussion of the CHAP's progress on its report. There will not be any opportunity for public comment at the November 2011 meeting.

Dated: October 7, 2011.
Todd A. Stevenson,
Secretary.

[FR Doc. 2011-26450 Filed 10-12-11; 8:45 am]

BILLING CODE 6355-01-P